DEPARTMENT OF ENERGY

Federal Energy Regulatory Commission

[Project No. 13371-002]

Town of West Stockbridge; Notice of Application Tendered for Filing With the Commission and Soliciting Additional Study Requests

Take notice that the following hydroelectric application has been filed with the Commission and is available for public inspection.

a. Type of Application: Exemption from Licensing.

b. Project No.: 13371-002.

c. Date Filed: September 21, 2017.

d. Applicant: Town of West Stockbridge (West Stockbridge).

e. Name of Project: Shaker Mill Dam Hydroelectric Project.

f. Location: On the Williams River, in the Town of West Stockbridge, Berkshire County, Massachusetts. No federal or tribal lands would be occupied by project works or located within the project boundary.

g. Filed Pursuant to: Public Utility Regulatory Policies Act of 1978, 16 U.S.C. 2705, 2708 (2012), amended by the Hydropower Regulatory Efficiency Act of 2013, Public Law 113-23, 127 Stat. 493 (2013).

h. Applicant Contact: Town of West Stockbridge, c/o Earl B. Moffatt, Chairman, Board of Selectmen, 21 State Line Rd., P.O. Box 525, West Stockbridge, MA 01266; (413) 232-0300, extension 319.

i. FERC Contact: Michael Watts, (202) 502-6123 or michael.watts@ferc.gov.

j. Cooperating agencies: Federal, state, local, and tribal agencies with jurisdiction and/or special expertise with respect to environmental issues that wish to cooperate in the preparation of the environmental document should follow the instructions for filing such requests described in item l below. Cooperating agencies should note the Commission's policy that agencies that cooperate in the preparation of the environmental document cannot also intervene. See, 94 FERC 61,076 (2001).

k. Pursuant to section 4.32(b)(7) of the Commission's regulations, if any resource agency, Indian Tribe, or person believes that an additional scientific study should be conducted in order to form an adequate factual basis for a complete analysis of the application on its merit, the resource agency, Indian Tribe, or person must file a request for a study with the Commission not later than 60 days from the date of filing of the application, and serve a copy of the request on the applicant.

l. Deadline for filing additional study requests and requests for cooperating agency status: November 20, 2017.

The Commission strongly encourages electronic filing. Please file additional study requests and requests for cooperating agency status using the Commission's eFiling system at http://www.ferc.gov/docs-filing/efiling.asp. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-13371-002.

m. This application is not ready for environmental analysis at this time.

n. The proposed Shaker Mill Dam Hydroelectric Project would consists of: (1) An existing 43-foot-long, 16.3-foot-high concrete gravity dam that includes a 10-foot-wide non-overflow section and a 33-foot-long ogee spillway section with two discharge pipes, and a crest elevation of 895.3 feet mean sea level (msl); (2) existing east and west concrete abutments; (3) existing east and west masonry training walls that extend downstream of the dam; (4) an existing 32.3-acre impoundment with a normal water surface elevation of 895.3 feet msl; (5) an intake structure that includes an existing 12-inch-diameter gate opening and a proposed 24-inch-diameter gate opening; (6) a proposed powerhouse with a 3-kilowatt (kW) Kaplan turbine-generator unit and a 6-kW Kaplan turbine-generator unit, for a total installed capacity of 9 kW; (7) two proposed draft tubes to discharge water from the powerhouse; and (8) appurtenant facilities.

West Stockbridge proposes to operate the project in a run-of-river mode with an estimated annual energy production of approximately 67.5 megawatt-hours.

o. A copy of the application is available for review at the Commission in the Public Reference Room or may be viewed on the Commission's Web site at http://www.ferc.gov using the “eLibrary” link. Enter the docket number excluding the last three digits in the docket number field to access the document. For assistance, contact FERC Online Support. A copy is also available for inspection and reproduction at the address in item h above.

You may also register online at http://www.ferc.gov/docs-filing/esubscription.asp to be notified via email of new filings and issuances related to this or other pending projects. For assistance, contact FERC Online Support.

p. Procedural schedule and final amendments: The application will be processed according to the following preliminary schedule. Revisions to the schedule will be made as appropriate (e.g., if there are no deficiencies and/or scoping is waived, the schedule would be shortened).

Issue Deficiency Letter—November 2017.

Issue Notice of Acceptance—March 2018.

Issue Scoping Document—April 2018.

Issue Notice of Ready for Environmental Analysis—June 2018.

Issue Notice of the Availability of the EA—October 2018.

Dated: October 5, 2017.
Kimberly D. Bose,
Secretary.

[FR Doc. 2017-22010 Filed 10-11-17; 8:45 am]

BILLING CODE 6717-01-P